DEPARTMENT OF HEALTH AND HUMAN SERVICES

Centers for Disease Control and Prevention

[Program Announcement 04248]

Childhood Asthma Prevalence and Risk Factors at the Border; Notice of Intent to Fund Single Eligibility Award

A. Purpose

The Centers for Disease Control and Prevention (CDC) announces the intent to fund fiscal year (FY) 2004 funds for a grant program for Childhood Asthma Prevalence and Risk Factors at the Border. The Catalog of Federal Domestic Assistance number for this program is 93.283.

B. Eligible Applicant

Assistance will be provided only to the California Department of Health Services. Staff at the California Department of Health Services has previously conducted asthma studies at the U.S./Mexico border, and serve as an invaluable resource for this activity. No other organization has the depth of collaborative history in asthma research studies in this geographic area along the U.S/Mexican border.

C. Funding

Approximately $210,000 is available in FY 2004 to fund this award. It is expected that the award will begin in August 2004, and will be made for a 12-month budget period within a project period of one year. Funding estimates may change.

D. Where To Obtain Additional Information

For general comments or questions about this announcement, contact: Technical Information Management, CDC Procurement and Grants Office, 2920 Brandywine Road, Atlanta, GA 30341-4146, Telephone: 770-488-2700.

For technical questions about this program, contact: Gregory O. Crawford, Project Officer, 1600 Clifton Road NE., Atlanta, GA 30333, Telephone: 404-498-1022.

Dated: May 12, 2004.
William P. Nichols,
Acting Director, Procurement and Grants Office, Centers for Disease Control and Prevention.

[FR Doc. 04-11195 Filed 5-17-04; 8:45 am]

BILLING CODE 4163-18-P